DEPARTMENT OF LABOR

Occupational Safety and Health Administration

29 CFR Part 1910

[Docket No. OSHA-2013-0010]

RIN 1218-AC80

Record Requirements in the Mechanical Power Presses Standard

AGENCY: Occupational Safety and Health Administration (OSHA), Department of Labor.

ACTION: Final rule; confirmation of effective date.

SUMMARY: On November 20, 2013, OSHA published in the Federal Register a direct final rule that revised records contained in the Mechanical Power Press Standard. OSHA stated in that document that it would withdraw the companion proposed rule and confirm the effective date of the final rule if the Agency received no significant adverse comments on the direct final rule or the proposal. Since OSHA received no such significant adverse comments on the direct final rule or the proposal, the Agency now confirms that the direct final rule became effective as a final rule on February 18, 2013.

DATES: The direct final rule published on November 20, 2013 (78 FR 69543), became effective as a final rule on February 18, 2014. For the purposes of judicial review, OSHA considers April 18, 2014, the date of issuance of the final rule.

ADDRESSES: In compliance with 28 U.S.C. 2112(a), OSHA designates the Associate Solicitor of Labor for Occupational Safety and Health as the recipient of petitions for review of the final standard. Contact Joseph M. Woodward, Associate Solicitor, at the Office of the Solicitor, Room S-4004, U.S. Department of Labor, 200 Constitution Avenue NW., Washington, DC 20210; telephone: (202) 693-5445; email: woodward.joseph@dol.gov.

FOR FURTHER INFORMATION CONTACT: General information and press inquiries: Contact Frank Meilinger, Director, OSHA Office of Communications, Room N-3647, U.S. Department of Labor, 200 Constitution Avenue NW., Washington, DC 20210; telephone: (202) 693-1999; email: meilinger.francis2@dol.gov.

Technical information: Contact Todd Owen, Directorate of Standards and Guidance, Room N-3609, OSHA, U.S. Department of Labor, 200 Constitution Avenue NW., Washington, DC 20210; telephone: (202) 693-2260; fax: (202) 693-1663; email: owen.todd@dol.gov.

SUPPLEMENTARY INFORMATION: Copies of this Federal Register notice: Electronic copies of this Federal Register notice are available at http://www.regulations.gov. This Federal Register notice, as well as news releases and other relevant information, also are available at OSHA's Web page at http://www.osha.gov.

Confirmation of the effective date: On November 20, 2014, OSHA published a direct final rule (DFR) in the Federal Register revising paragraphs (e)(1)(i) and (e)(1)(ii) of OSHA's Mechanical Power Presses Standard at 29 CFR 1910.217. The DFR revised paragraph (e)(1)(i) of OSHA's Mechanical Power Presses Standard at 29 CFR 1910.217 to require that employers perform and complete necessary maintenance and repair on their mechanical power presses, and to develop and maintain certification records of these tasks. The DFR also removed requirements from paragraph (e)(1)(ii) of this standard to develop and maintain certification records for weekly inspections and tests performed on mechanical power presses. The revisions made in this final rule maintain the safety previously afforded to employees by these provisions, while substantially reducing paperwork burden hours and cost to employers.

In the DFR, OSHA stated that it would confirm the effective date of the DFR as a final rule if it received no significant adverse comments on the direct final rule or the proposal. OSHA received two comments, neither of which was a significant adverse comment (see ID: OSHA-2013-0010-0003 and OSHA-2013-0010-004 in the docket for this rulemaking). Accordingly, OSHA is confirming the effective date of the final rule.

The first commenter, Ms. Teresa Brown of University of Memphis, expressed concern that the proposed revisions would prevent employers from ascertaining whether employees who operate mechanical power presses received adequate training for these operations. In addition, Ms. Brown believed that the proposed revisions would require employers to use only computers to develop and maintain training records (ID: OSHA-2013-0010-0003). OSHA notes that the final rule does not revise the training requirements or the recordkeeping requirements for training specified in the Mechanical Power Presses Standard. In addition, the final rule does not revise the means that employers can use to meet the information-collection requirements specified by this standard. For recordkeeping purposes, the recordkeeping requirements specified by the final rule are still written in performance-oriented language, i.e., in terms of what information to collect rather than how to collect the information.

Mr. Tim Hutchison submitted the second comment. Mr. Hutchison asked how would OSHA “know if [a] repair was not performed when noted” and “[h]ow will [OSHA] determine a `willful' violation” (ID: OSHA-2013-0010-0004). In response to these questions, OSHA notes that paragraph (e)(1)(i) previously required employers to inspect all parts, auxiliary equipment, and safeguards of mechanical power presses on a periodic and regular basis, and to maintain certification records showing that they conducted the inspections; this provision did not require employers to perform any maintenance or repair tasks found necessary during the inspections, much less document such tasks. This final rule revises paragraph (e)(1)(i) to require that employers conduct periodic and regular inspections of each press and, before operating the press, perform and complete any maintenance or repair task found necessary during the inspections. In addition, employers must maintain certification records of inspections conducted and any maintenance and repairs performed during the inspections. These maintenance and repair records, supplemented by employee interviews, will permit OSHA to determine if an employer performed necessary maintenance and repairs on a press before operating it. The Agency will determine whether a violation of these requirements is willful based on OSHA's Field Operations Manual (FOM).¹

¹ See the FOM, CPL 02-00-150, Ch. 4, § V, pp. 4-28 to 4-29 (Apr. 22, 2011), available on OSHA's Web page.

List of Subjects in 29 CFR Parts 1910

Mechanical power presses, Occupational safety and health, Safety.

Authority and Signature

David Michaels, Ph.D., MPH, Assistant Secretary of Labor for Occupational Safety and Health, U.S. Department of Labor, 200 Constitution Avenue NW., Washington, DC 20210, authorized the preparation of this final rule. OSHA is issuing this final rule pursuant to 29 U.S.C. 653, 655, and 657, 5 U.S.C. 553, Secretary of Labor's Order 1-2012 (77 FR 3912), and 29 CFR part 1911.

Signed at Washington, DC, on April 14, 2014.
David Michaels,
Assistant Secretary of Labor for Occupational Safety and Health.

[FR Doc. 2014-08864 Filed 4-17-14; 8:45 am]

BILLING CODE 4510-26-P